DEPARTMENT OF COMMERCE

Foreign-Trade Zones Board

[S-104-2020]

Approval of Subzone Status; Ipswich Shellfish Company, Inc.; Ipswich, Massachusetts

On June 11, 2020, the Executive Secretary of the Foreign-Trade Zones (FTZ) Board docketed an application submitted by the Massachusetts Port Authority, grantee of FTZ 27, requesting subzone status subject to the existing activation limit of FTZ 27, on behalf of Ipswich Shellfish Company, Inc., in Ipswich, Massachusetts.

The application was processed in accordance with the FTZ Act and Regulations, including notice in the Federal Register inviting public comment (85 FR 36529-36530, June 17, 2020). The FTZ staff examiner reviewed the application and determined that it meets the criteria for approval. Pursuant to the authority delegated to the FTZ Board Executive Secretary (15 CFR Sec. 400.36(f)), the application to establish Subzone 27Q was approved on August 7, 2020, subject to the FTZ Act and the Board's regulations, including Section 400.13, and further subject to FTZ 27's 129-acre activation limit.

Dated: August 7, 2020.
Andrew McGilvray,
Executive Secretary.

[FR Doc. 2020-17724 Filed 8-12-20; 8:45 am]

BILLING CODE 3510-DS-P